DEPARTMENT OF HEALTH AND HUMAN SERVICES

National Institutes of Health

Notice of Listing of Members of the National Institutes of Health's Senior Executive Service 2019 Performance Review Board (PRB)

AGENCY: National Institutes of Health, HHS.

ACTION: Notice.

SUMMARY: The National Institutes of Health (NIH) announces the persons who will serve on the National Institutes of Health's Senior Executive Service 2019 Performance Review Board.

FOR FURTHER INFORMATION CONTACT: For further information about the NIH Performance Review Board, contact Mr. Kha Nguyen, Director, Division of Senior and Scientific Executive Management, Office of Human Resources, National Institutes of Health, Building 2, Room 5W07, Bethesda, Maryland 20892, telephone 301-451-3231 (not a toll-free number), email kha.nguyen@nih.gov.

SUPPLEMENTARY INFORMATION: This action is being taken in accordance with Title 5, U.S.C., Section 4314(c)(4), which requires that members of performance review boards be appointed in a manner to ensure consistency, stability, and objectivity in performance appraisals and requires that notice of the appointment of an individual to serve as a member be published in the Federal Register.

The following persons will serve on the NIH Performance Review Board, which oversees the evaluation of performance appraisals of NIH Senior Executive Service (SES) members:

Alfred Johnson, Chair

Michael Gottesman

Ann Huston

Michael Lauer

Sally Lee

Ellen Rolfes

Patrick Shirdon

Lawrence Tabak

Daniel Wheeland

Dated: August 19, 2019.
Francis S. Collins,
Director, National Institutes of Health.

[FR Doc. 2019-18296 Filed 8-23-19; 8:45 am]

BILLING CODE 4140-01-P